DEPARTMENT OF AGRICULTURE

Submission for OMB Review; Comment Request

January 20, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: U.S. Origin Health Certificate.

OMB Control Number: 0579-0020.

Summary of Collection: The Animal Health Protection Act (AHPA) of 2002 is the primary Federal law governing the protection of animal health. The AHPA is contained in Title X, Subtitle E, Sections 10401-18 of Public Law 107-171, May 13, 2002, the Farm Security and Rural Investment Act of 2002. As part of its mission to facilitate the export of U.S. animals and products, the U.S. Department of Agriculture, Animal and Plant Health Inspection Service (APHIS), Veterinary Services (VS), maintains information regarding the import health requirements of other countries for animals and animal products exported from the United States. Most countries require a certification that the animals are disease free. The VS form 17-140, U.S. Origin Health Certificate, and VS form 17-145, U.S. Origin Health Certificate for the Export of Horses from the United States to Canada, are used to meet these requirements. The form is authorized by 21 U.S.C. 112.

Need and Use of the Information: The U.S. Origin Health Certificate is used in connection with the exportation of animals to foreign countries and is completed and authorized by APHIS veterinarian. The information collected is used to: (1) Establish that the animals are moved in compliance with USDA regulations, (2) verify that the animals destined for export are listed on the health certificate by means of an official identification, (3) verify to the consignor and consignee that the animals are healthy, (4) prevent unhealthy animals from being exported and (5) satisfy the import requirements of receiving countries.

The collection of this information helps to prevent unhealthy animals from being exported from the United States. If these certifications were not provided, other countries would not accept animals from the United States.

Description of Respondents: Farms; Business or other for-profit.

Number of Respondents: 2,056.

Frequency of Responses: Reporting: On occasion.

Total Burden Hours: 13,875.

Animal and Plant Health Inspection Service

Title: Brucellosis in Sheep, Goats, Horses, and Payment of Indemnity.

OMB Control Number: 0579-0185.

Summary of Collection: The Animal Health Protection Act (AHPA) of 2002 (7 U.S.C. 8301), is the primary Federal law governing the protection of animal health. The law gives the Secretary of Agriculture broad authority to detect, control, or eradicate pests or diseases of livestock or poultry. The agency charged with carrying out this disease prevention mission is the Animal and Plant Health Inspection Service (APHIS). Disease prevention is the most effective method for maintaining a healthy animal population and enhancing APHIS' ability to compete in the world market of animal and animal product trade. Brucellosis is an infectious disease of animals and humans caused by the bacteria of the genus Brucella. It is mainly a disease of cattle, bison, and swine, sheep, goats, and horses are also susceptible, but are rarely infected. There is no economically feasible treatment for brucellosis in livestock. APHIS will collect information using APHIS forms VS 1-23, Indemnity Claim, VS 4-33, Test Records, and VS 1-27, Permit for Movement of Restricted Animals.

Need and Use of the Information: APHIS will collect information from the use of official seals and animal identification; indemnity claims, test records, and permits; and the submission of proof of destruction documentation and requests for extension of certain program-related deadlines. The information will provide indemnity to owners of sheep, goat, or horses destroyed because of brucellosis. Without the information, it would make it impossible for APHIS to administer an indemnity program for sheet, goats, and horses destroyed because of brucellosis.

Description of Respondents: Business or other for-profit; State, Local and Tribal Government.

Number of Respondents: 3.

Frequency of Responses: Reporting: On occasion.

Total Burden Hours: 8.

Animal Plant and Health Inspection Service

Title: Importation of Emerald Ash Borer Host Material from Canada.

OMB Control Number: 0579-0319.

Summary of Collection: The United States Department of Agriculture, Animal and Plant Health Inspection Service (APHIS), is responsible for preventing plant diseases or insect pests from entering the United States, preventing the spread of pests and noxious weeds not widely distributed in the United States, and eradicating those imported pests when eradication is feasible. Under the Plant Protection Act (7 U.S.C. 7701—et seq.), the Secretary of Agriculture is authorized to prohibit or restrict the importation, entry, or movement of plants and plant pests to prevent the introduction of plant pests into the United States or their dissemination within the United States. The regulations in 7 CFR Part 319, “Foreign Quarantine Notices,” prohibit or restrict the importation of certain plants and plant products to prevent the introduction or dissemination of plant pests and noxious weeds into the United States. The Foreign Quarantine Notices regulations prohibit or restrict the importation of certain articles from Canada that present the risk of being infested with Emerald Ash Borer (EAB). EAB is a destructive wood-boring insect that attacks ash trees (Praxinus spp., including green ash, white ash, and several horticultural varieties of ash).

Need and Use of the Information: APHIS will collect information using phytosanitary certificates, permit applications, and certificates of inspection. If APHIS did not collect this information, EAB could damage ash trees and cause economic losses to nursery stock and the nursery industry.

Description of Respondents: Business or other-for-profit.

Number of Respondents: 6.

Frequency of Responses: Reporting: On occasion.

Total Burden Hours: 4.

Ruth Brown,
Departmental Information Collection Clearance Officer.

[FR Doc. 2011-1545 Filed 1-25-11; 8:45 am]

BILLING CODE 3410-34-P